DEPARTMENT OF STATE

[Public Notice: 12555]

RIN 1400-AF92

Public Notice of Revised Exchange Visitor Skills List

AGENCY: Department of State.

ACTION: Public notice.

SUMMARY: The Department of State (“Department”) is announcing an update of the Exchange Visitors Skills List (“Skills List”). The Skills List is a list of countries designated by the Secretary of State as clearly requiring the services of persons engaged in certain fields of specialized knowledge or skills. This list is used by the Department of State and the Department of Homeland Security to determine whether an individual who has been admitted into the United States as a “J” nonimmigrant exchange visitor, or who acquired such status, is subject to the two-year foreign residence requirement under Section 212(e) of the Immigration and Nationality Act (“INA”), as amended.

DATES: The Exchange Visitor Skills List is applicable on December 9, 2024.

FOR FURTHER INFORMATION CONTACT: Jami Thompson, Senior Regulatory Coordinator, Visa Office, Bureau of Consular Affairs, Department of State; email: VisaRegs@state.gov.

SUPPLEMENTARY INFORMATION: INA 212(e) (8 U.S.C. 1182(e)) provides that certain individuals who have been admitted to the United States as “J” nonimmigrant exchange visitors, or who acquired such status in the United States, are ineligible to apply for an immigrant visa, for permanent residence, or for certain nonimmigrant visas until they have resided and been physically present in their country of nationality or last residence for an aggregate of at least two years following departure from the United States. More specifically, under INA 212(e) (8 U.S.C. 1182(e)), this requirement attaches to J nonimmigrants who, among other criteria, are a national or resident of a country that the Secretary of State, pursuant to Department regulations, has designated as clearly requiring the services of persons engaged in the field of specialized knowledge or skill in which the individual was engaged. Department regulations at 22 CFR 41.62(c) implement the Secretary's designation authority under this provision, providing that an exchange visitor is subject to the two-year foreign residence requirement if they are a national or legal permanent resident of a “country which the Secretary of State has designated, through publication by public notice in the Federal Register, as clearly requiring the services of persons engaged in the field of specialized knowledge or skill” during their exchange visitor program. The Department also implements INA 212(e), 8 U.S.C. 1182(e) through regulations at 22 CFR 41.63 and 22 CFR 40.202.

Pursuant to the provisions of INA 212(e), 8 U.S.C. 1182(e), 22 CFR 41.62, and 22 CFR 41.63, the Department is announcing a revised Skills List. The Department has periodically updated the Skills List since the initial publication of the Skills List on April 25, 1972. New lists were published on February 10, 1978, June 12, 1984, January 16, 1997, and April 30, 2009. This revised Skills List supersedes the most recent Skills List published in 2009. Accordingly, J nonimmigrant exchange visitors who were subject to the two-year foreign residence requirement at the time of their admission or acquisition of J status based on designations in a previously published Skills List will no longer be subject to that requirement if their country is not designated in this revised list. This Skills List was developed by the Bureau of Consular Affairs Visa Office in collaboration with the State Department's Office of the Chief Economist and the Bureau of Educational and Cultural Affairs.

The Department is updating the countries included on the Skills List based on criteria that is data driven, transparent, and consistent with U.S. goals for the development of foreign countries. The Department is not updating skills in this revision—for countries present on this revised Skills List, the skills listed remain the same as in the 2009 Skills List. The Skills List below accounts for overall economic development (as measured by per capita Gross Domestic Product (GDP)), country size, and overall outbound migration rate.¹

¹ All data taken from the World Bank Group Data (https://data.worldbank.org/).

• If a country has per capita GDP that is less than $7,500 ² in 2023 dollars (calculated using the purchasing power parity (PPP) exchange rate), the Department presumes it would benefit from its nationals or residents possessing the specialized knowledge or skills designated on the Skills List.

² $7500 in 2023 dollars is approximately 50% of global median income or about the 33 percentile of income distribution, which covers about ⅓ of all countries with lowest human development indicator measure.

• If a country is at or above the $ 7,500 GDP threshold, but below the median per capita GDP ($15,000 in 2023 dollars), and determined to be small, which makes it more difficult to develop internal hubs of specialized knowledge or skills, the Department presumes that country would benefit from its nationals or residents possessing the specialized knowledge or skills designated on the Skills List.

• If a country is at or above the $7,500 GDP threshold, but below the median per capita GDP ($15,000 in 2023 dollars), and has experienced a significant balance of outbound migration, which is likely to have resulted in the loss of talent and skills over the preceding decade, the Department presumes that country would benefit from its nationals or residents possessing the specialized knowledge or skills designated on the Skills List.

The Department has chosen these indicators and thresholds as an objective, measurable proxy for a country's standard of living and development and is closely linked to the accumulation of human capital within a given country. These criteria are meant to ensure countries with low levels of development as well as those countries with higher levels of development that have other extenuating circumstances that stymie the development of a skilled workforce will remain on the Skills List to support the development of that country.

The Department has chosen these criteria to assist its determination that the listed countries clearly require the services of persons engaged in designated fields of specialized knowledge or skills, because these well-established measures of a country's standard of living are informative of whether the country in fact clearly requires the relevant knowledge or skill, as opposed to the country only benefiting from or otherwise not requiring additional expertise in the relevant fields.

The Department intends to review the Skills List every three years and will publish updates as appropriate.

Exchange Visitors who seek a definitive determination from the Department of whether the two-year foreign residence requirement applies to them may request an Advisory Opinion from the Waiver Review Division. Information on this process is available on our website at travel.state.gov.

This Notice is exempt from notice and comment as it involves a foreign affairs function of the United States. 5 U.S.C. 553(a)(1).). The Department has invoked the foreign affairs exemption from Administrative Procedure Act (APA) requirements for numerous rules involving the Exchange Visitor Program going back to 1949, including several rules specifically relating to the two-year foreign residence requirement.³

³ See, e.g., 14 FR 4591 (July 22, 1949), 21 FR 6270 (Aug. 21, 1956), 37 FR 7156 (Apr. 11, 1972), 37 FR 17470 (Aug. 29, 1972), 38 FR 20319 (July 31, 1973), 72 FR 10060 (Mar. 7, 2007).

Under 5 U.S.C. 553(a)(1), notice-and-comment requirements of the APA do not apply “to the extent there is involved . . . a military or foreign affairs function of the United States.” This exemption applies when the rule in question “is clearly and directly involved in a foreign affairs function.” ⁴ In addition, although the text of the APA does not require an agency invoking this exemption to show that such procedures may result in “definitely undesirable international consequences,” some courts have required such a showing.⁵ Both standards are satisfied here.

⁴ Mast Indus. v. Regan, 596 F. Supp. 1567, 1582 (Ct. Int'l Trade 1984) (quotation marks omitted).

⁵ E.g., Yassini v. Crosland, 618 F.2d 1356, 1360 n.4 (9th Cir. 1980).

In designating countries and skills on the Skills List, the Secretary is carrying out authority vested by Congress to assess the needs of foreign countries. As this relates to the Exchange Visitor Program, a key diplomacy tool, the Secretary's designations of countries on the list directly involves a foreign affairs function as the designations are a vehicle to advancing U.S. foreign policy objectives in countries whose nationals and residents participate in exchange visitor programs. The Exchange Visitor Program's nexus to foreign affairs is reflected in the purpose of the United States Information and Educational Exchange Act of 1948 to “promote the better understanding of the United States among the peoples of the world and to strengthen cooperative international relations,” ⁶ and the Secretary's discretionary designation of countries as “clearly requiring” certain fields of knowledge or skills by nature reflects a quintessential foreign affairs function. The Mutual Educational and Cultural Exchange Act of 1961 (also known as the Fulbright-Hays Act), provides further evidence of the foreign affairs function served by the Exchange Visitor Program.

⁶ Public Law 80-402 (1948).

“The purpose of this [Act] is to enable the Government of the United States to increase mutual understanding between the people of the United States and the people of other countries by means of educational and cultural exchange; to strengthen the ties which unite us with other nations by demonstrating the educational and cultural interests, developments, and achievements of the people of the United States and other nations, and the contributions being made toward a peaceful and more fruitful life for people throughout the world; to promote international cooperation for educational and cultural advancement; and thus to assist in the development of friendly, sympathetic, and peaceful relations between the United States and the other countries of the world.” 22 U.S.C. 2451.

The revised Exchange Visitors Skills List clearly and directly involves a foreign affairs function given the nature of the Secretary's express authority to designate countries under INA section 212(e), 8 U.S.C. 1182(e). Even more generally, courts have acknowledged that “[t]he exchange visitor program—with its statutory mandate for international interaction through nonimmigrants—certainly relates to the foreign affairs and diplomatic duties conferred upon the Secretary of State and the State Department.” Raoof v. Sullivan, 315 F. Supp. 3d 34, 44 (D.D.C. 2018).

Further, requiring the Department to subject this list of designations to the APA's notice and comment requirements would result in “definitely undesirable international consequences.” The foreign relations considerations of opening this list of designations to public comment, including comment from foreign governments whose policies are directly affected by this list and requiring the Department to respond publicly to questions regarding the balancing of foreign policy and other national interests, would have definitely undesirable international consequences.⁷ For example, if a foreign country expresses dissatisfaction with the Skills List designations, requiring the Department to air this disagreement in a public forum could have larger implications for foreign relations between the United States and that other country.

⁷ Yassini v. Crosland, 618 F.2d 1356, 1360 n.4 (9th Cir. 1980).

The 2024 Exchange Visitor Skills List reads as follows:

(01) Agriculture, Agriculture Operations, and Related Sciences

(01.00)

• Agriculture, General

(01.01)

• Agricultural Business and Management

• Production Operations and Mechanization

(01.06)

• Applied Horticulture/Horticulture

(01.09)

• Animal Sciences

• Agricultural Animal Breeding

• Animal Health and Nutrition

• Dairy Science

• Livestock Management

• Poultry Science

(01.10)

• Food Science

(01.11)

• Plant Sciences

• Crop Science

• Horticulture Science

• Agricultural and Horticultural Plant Breeding

• Pest Management

• Range Science

(01.12)

• Soil Science and Agronomy

(03) Natural Resources and Conservation

(03.01)

• Natural Resources Conservation and Research

• Environmental Science

• Wildlife Studies

• Wildlands Studies

• Environmental Protection

(03.02)

• Natural Resources Management and Policy

(03.03)

• Fishing and Fisheries Sciences

• Fishing and Fisheries Management

(03.05)

• Forestry

(04) Architecture and Related Services

(04.02)

• Architecture

• Environmental Design

• Interior Design

• Landscape Design

• Architectural History

• Architectural Technology

(04.03)

• City/Urban Planning

• Community and Regional Planning

• Architectural Urban Design

(05) Area, Ethnic, Cultural, and Gender Studies

—

(09) Communication, Journalism, and Related Programs

(09.01)

• Communication and Media Studies

(09.04)

• Journalism

• Broadcast Journalism

• Photojournalism

• On-Line/Web page News

(09.07)

• Telecommunication

• Radio Communication

• Television Communication

• Digital Communication

• Media/Multimedia

(09.09)

• Public Relations

• Advertising

• Applied Communication

(09.10)

• Publishing

(10) Communications Technologies, Technicians and Support Services

(10.01)

• Communications Technology/Technicians

(10.02)

• Audiovisual Communications Technologies/Technicians

• Photographic and Film/Video Technology

• Radio and Television Broadcasting

• Recording Arts

(10.03)

• Graphic Communications

• Printing Management

• Prepress/Desktop Publishing and Digital Imaging Design

• Animation

• Interactive Technology

• Video Graphics and Special Effects

• Graphic and Printing Equipment Operator

• Printing Press Operator

• Computer Typography

• Composition Equipment Operator

(11) Computer and Information Sciences and Support Services

(11.01)

• Computer and Information Sciences, General

• Web page Design

• Database Administration

• Cybernetics

• Artificial Intelligence

• Robotics

• Information Technology

(11.02)

• Computer Programming

(11.03)

• Data Processing

(11.04)

• Information Science/Studies

(11.05)

• Computer Systems Analysis

(11.06)

• Data Entry

• Microcomputer Applications

• Word Processing

(11.07)

• Computer Science

• Systems Engineering

(11.10)

• Computer/Information Technology Administration

• Computer/Information Technology Management

(12) Personal and Culinary Services

(12.03)

• Funeral & Mortuary Service

(12.05)

• Cooking, Culinary Arts and Related Services

• Baking and Pastry Arts

• Bartending

• Culinary Arts/Chef Training

• Restaurant Management

• Culinary and Catering Management

• Food Preparation/Professional Cooking

• Meat Cutting

• Food Service

• Institutional Food Workers

(13) Education

(13.01)

• Education, General

• Educational Administration

(13.02)

• Bilingual, Multilingual, and Multicultural

(13.03)

• Curriculum and Instruction

• Media Design

(13.06)

• Educational Assessment, Evaluation, and Research

(13.09)

• Social and Philosophical Foundations of Education

(13.10)

• Special Education and Teaching

(13.11)

• Student Counseling and Personnel Services

(13.12)

Teacher Education and Professional Development, Specific Levels and Methods, including, but not limited to:

• Adult and Continuing Education

• Early Childhood

• Elementary

• Middle School and Secondary Education

• Montessori Teacher Education

• Waldorf/Steiner Teacher Education

(13.13)

Teacher Education and Professional Development, Specific Subject Areas, including, but not limited to:

• Agriculture

• Art

• Business

• Computers

• Drama

• Driver Safety

• English

• Foreign Languages

• Geography

• Health

• History

• Home Economics

• Industrial Arts

• Sales and Marketing

• Math

• Music

• Physical Education

• Psychology

• Reading

• Science

• Social Studies

• Speech

(14) Engineering

(14.01)

• Engineering, General

(14.02)

• Aerospace, Aeronautical and Astronautical Engineering

(14.03)

• Agricultural/Biological Engineering and Bioengineering

(14.05)

• Biomedical/Medical Engineering

(14.07)

• Chemical Engineering

(14.08)

• Civil Engineering

• Geotechnical Engineering

• Structural Engineering

• Water Resources

• Transportation and Highway Engineering

(14.09)

• Computer Hardware and Software Engineering

(14.10)

• Electrical, Electronics and Communications Engineering

• Radio Engineering

(14.14)

• Environmental Engineering

• Pollution Control

• Waste and Hazardous Material Disposal

(14.18)

• Materials Engineering

(14.19)

• Mechanical Engineering

(14.20)

• Metallurgical Engineering

(14.21)

• Mining and Mineral Engineering

(14.22)

• Naval Architecture and Marine Engineering

(14.23)

• Nuclear Engineering

(14.24)

• Ocean Engineering

(14.25)

• Energy Engineering & Tech.

• Petroleum and Natural Gas

(14.33)

• Construction Engineering

(14.35)

• Industrial/Manufacturing Engineering

(14.38)

• Surveying Engineering

(14.39)

• Geological/Geophysical Engineering

(16) Foreign Languages, Literatures, and Linguistics

Including:

• Foreign Languages and Literatures

• Linguistics

• Language Interpretation and Translation

• Comparative Literature

• Language

• Literature and Linguistics for all Languages in the world including various forms and study of sign language

(19) Family and Consumer Sciences/Human Sciences

(19.01)

• Family and Consumer Sciences, General

• Human Sciences, General (formerly, Home Economics)

(19.05)

• Foods, Nutrition, and Related Services

(19.09)

• Apparel and Textiles

• Textile Manufacturing

• Textile Science

• Apparel and Textile Marketing Management

• Fashion and Fabric Consulting

(22) Legal Professions and Studies

Including:

• Law

• Legal Research

• Judicature

• All branches and specialties in the practice of law

(23) English Language and Literature/Letters

Including:

• English Literature

• Composition

• Various types of English Writing

(24) Liberal Arts and Sciences, General Studies and Humanities

—

(25) Library Science

(26) Biological and Biomedical Sciences

(26.01)

• Biology

(26.03)

• Botany/Plant Biology

(26.04)

• Anatomical Sciences

• Anatomy

(26.05)

• Microbiological Sciences and Immunology

(26.07)

• Zoology/Animal Biology

(26.08)

Genetics, all types, including:

• Animal

• Plant

• Molecular

• Microbial and Eukaryotic

• Human

• Genetic Engineering

• Biomathematics

• Bioinformatics

(26.12)

• Biotechnology

(26.13)

• Ecology, Population Biology

(27) Mathematics and Statistics

—

(31) Parks, Recreation, Leisure, and Fitness Studies

(31.01)

• Parks, Recreation and Leisure Studies

(31.05)

• Health and Physical Education/Fitness

(36.0101)

• Camp Counselor

(38) Philosophy and Religious Studies

—

(39) Theology and Religious Vocations

—

(40) Physical Sciences

(40.01)

• Physical Sciences

(40.02)

• Astronomy

• Astrophysics

• Planetary Astronomy and Science

• Space Technology

(40.04)

• Atmospheric Sciences and Meteorology

(40.05)

• Chemistry

(40.06)

• Geological and Earth Sciences

• Geosciences

• Oceanography

• Hydrology

(40.08)

• Physics

(41) Science Technologies/Technicians

—

(42) Psychology

Including, but not limited to:

• Psychometrics

• Psychobiology

(43) Security and Protective Services

Including:

• Law Enforcement

• Fire Protection

• Corrections

(44) Public Administration and Social Service Professions

(44.04)

• Public Administration

• City Planning

• Urban Planning

• Urban Transportation

(44.07)

• Social Work

• Youth Services

• Welfare

• Probation

(45) Social Sciences

(45.02)

• Anthropology

• Physical Anthropology

(45.03)

• Archeology

(45.04)

• Criminology

(45.05)

• Demography and Population Studies

(45.06)

• Economics

(45.07)

• Geography

• Cartography

(45.09)

• International Relations and Affairs

(45.10)

• Political Science and Government

(45.11)

• Sociology

(45.99)

• Social Sciences, Other

(46) Construction Trades

—

(47) Mechanic and Repair Technologies/Technicians

—

(48) Precision Production

(48.00)

• Precision Production Trades

• Metal Working

• Woodworking

• Drafting

(49) Transportation and Materials Moving

(49.01)

Air Transportation, including:

• Aeronautics/Aviation/Aerospace Science and Technology, General

• Airline/Commercial/Professional Pilot and Flight Crew

• Aviation/Airway Management and Operations

• Air Traffic Controller

• Flight Instructor

(49.02)

Ground Transportation, including:

• Construction

• Heavy Equipment/Earthmoving Equipment Operation

• Commercial Vehicle Operation

• Mobil Crane Operation

(49.03)

Marine Transportation, including:

• Commercial Fishing

• Diver, Professional Instructor

• Marine Science

• Merchant Marine

(50) Visual and Performing Arts

(50.01)

Visual and Performing Arts, including, but not limited to:

• Music

• Theatre

• Sculpture

• Photography

• TV & Motion Picture Arts & Sciences

(50.04)

Design and Applied Arts, including:

• Commercial and Advertising Art

• Industrial Design

• Fashion/Apparel Design

• Interior Design

• Graphic Design

• Illustration

(51) Health Professions and Related Clinical Sciences

(51.01)

• Chiropractic

(51.02)

• Communication Disorders Sciences & Services

• Speech Language Pathology

• Sign Language Interpretation

(51.04)

• Dentistry

• Advanced/Graduate Dentistry

• Oral Sciences

• Dental Technology

• Orthodontics

(51.06)

• Dental Support Services/Assistant

(51.07)

• Health and Medical Administrative Services

• Health/Medical Statistics and Documentation

(51.08)

• Medical Support Services/Assistant

(51.09)

Allied Health Diagnostic, Intervention, and Treatment Professions, including, but not limited to the following fields:

• Emergency Medical

• Cardiovascular

• Electrocardiograph Electroneurodiagnostic/Electroencephalographic

• Nuclear Medical

• Perfusionist

• Radiation Therapy

• Respiratory Care Therapy

• Surgical

• Sonography and Ultrasound

• Radiography

• Athletic Training

• Genetic Therapy

• Cardiopulmonary

• Radiation Protection/Health Physics

(51.10)

• Clinical/Medical Laboratory Science and Allied Professions

(51.12)

Medicine/Medical Research, all specialties and fields, including, but not limited to:

• Allergy and Immunology

• Anesthesiology

• Audiology

• Cancer

• Cardiography

• Cardiology

• Dermatology

• Embryology

• Emergency Medicine

• Epidemiology

• Family Practice

• Forensic Medicine

• Gastroenterology

• Geriatrics

• Hematology

• Internal Medicine

• Medical Genetics

• Neurology

• Nuclear Medicine

• Obstetrics and Gynecology

• Oncology

• Ophthalmology

• Orthopedic Surgery

• Otolaryngology

• Pathology

• Pediatrics

• Pharmacology and Pharmaceutics

• Physical Medicine and Rehabilitation

• Physiology

• Plastic Surgery

• Podiatry

• Preventive Medicine

• Proctology

• Psychiatry

• Radiology

• Radiation Oncology

• Speech Pathology

• Sports Medicine

• Surgery

• Toxicology

• Transitional

• Urology

• Virology

(51.15)

• Mental and Social Health Services

• Substance Abuse Counseling

• Marriage/Family Counseling

• Psychoanalysis

(51.16)

• Nursing (including all specialties)

(51.17)

• Optometry

(51.19)

• Osteopathic Medicine/Osteopathy

(51.20)

• Pharmacy (including Administration)

(51.22)

• Public Health, including, but not limited to:

• Environmental Health

• Occupational Health and Industrial Hygiene

• Public Health Education and Promotion

• International Health

• Community Health and Preventive Medicine

• Health Services Administration

(51.23)

• Rehabilitation and Therapeutic Professions

(51.24)

• Veterinary Medicine

(51.25)

Veterinary Biomedical and Clinical Sciences, including all Veterinary Sciences:

• Anatomy

• Physiology

• Microbiology

• Pathology

• Toxicology

• Animal/Veterinary Surgery and Medicine

(51.27)

• Medical Illustration

• Informatics & Medical Photography

(51.31)

• Dietetics and Clinical Nutrition

(51.33)

• Alternative Medicine

(52) Business, Management, Marketing, and Related Support Services

(52.02)

• Business Administration

• Management and Operations

• Industrial Administration & Management

• Small Business Administration/Operations

• Franchising

(52.03)

• Accounting and Related Services

(52.04)

• Business Operations Support and Assistant Services

(52.06)

• Business/Managerial Economics

• Management Studies & Economic Information Analysis

(52.08)

• Finance

• Banking and Financial Management Services

(52.09)

• Hospitality Administration/Management

• Hotel, Motel, and Restaurant Management & Tourism

• Travel Services Management

(52.10)

• Human Resources Management and Services

• Labor and Industrial Relations

• Organizational Behavior Studies

• Labor Studies

(52.11)

• International Business/Trade/Commerce

(52.12)

• Management Information Systems and Services

(52.13)

• Management Sciences and Quantitative Methods

• Operations Research

• Statistics

(52.14)

• Marketing/Marketing Management

(52.15)

• Real Estate

(52.16)

• Taxation

(52.17)

• Insurance

(52.20)

• Construction Management

(54) History

(54.01)

• History

• Regional History, such as American, European and Asian

• History of Science and Technology

• Public/Applied History

• Archival Administration

(60) Medical Residency Programs

(60.01)

Dental Residency Programs:

(60.02)

Medical Residency Programs:

• The program sponsor for medical residency programs is The Educational Commission for Foreign Medical Graduates

(60.03)

• Veterinary Residency Programs

Country Skill Codes

Belize *

• 01, 03, 04, 05, 09, 10, 11, 12, 13, 14, 16, 19, 22, 23, 24, 25, 26, 27, 31, 38, 39, 40, 41, 42, 43, 44, 45, 46, 47, 48, 49, 50, 51, 52, 54, 60

Benin

• 01, 03, 04, 05, 09, 10, 11, 12, 13, 14, 16, 19, 22, 23, 24, 25, 26, 27, 31, 38, 39, 41, 42, 43, 44, 45, 46, 47, 48, 49, 50, 51, 52, 54, 60

Burkina Faso *

• 01, 03, 04, 05, 09, 10, 11, 12, 13, 14, 16, 19, 22, 23, 24, 25, 26, 27, 31, 38, 39, 40, 41, 42, 43, 44, 45, 46, 47, 48, 49, 50, 51, 52, 54, 60

Burma (Myanmar) *

• 01, 03, 04, 05, 09, 10, 11, 12, 13, 14, 16, 19, 22, 23, 24, 25, 26, 27, 31, 38, 39, 40, 41, 42, 43, 44, 45, 46, 47, 48, 49, 50, 51, 52, 54, 60

Cambodia

• 01.01, 03.01, 04.03, 10.01, 13.01, 14.14, 44.04, 51.08, 51.12

Cameroon

• 03.01, 03.05, 04, 09, 10, 11, 13, 14, 16, 19.05, 23, 24, 25, 26, 27, 31.01, 38, 39, 40, 41, 43, 44, 45, 46, 47, 50, 51.01, 51.04, 51.06, 51.07, 51.08, 51.09, 51.10, 51.12, 51.15, 51.16, 51.17, 51.19, 51.20, 51.22, 51.23, 51.24, 51.25, 51.27, 51.31, 51.33, 52.02, 52.03, 52.04, 52.06, 52.08, 52.09, 52.11, 52.12, 52.13, 52.14, 52.15, 52.20, 54, 60

Cape Verde

• 01, 03, 10, 11, 13, 14, 16, 26, 27, 40, 41, 42, 43, 44, 51

Congo, Dem. Rep.*

• 01, 03, 04, 05, 09, 10, 11, 12, 13, 14, 16, 19, 22, 23, 24, 25, 26, 27, 31, 38, 39, 40, 41, 42, 43, 44, 45, 46, 47, 48, 49, 50, 51, 52, 54, 60

Djibouti

• 01, 13, 19, 23, 24, 25, 26, 27, 31, 41, 42, 45, 46, 47, 48, 51, 52, 60

Ecuador *

• 01, 03, 04, 05, 09, 10, 11, 12, 13, 14, 16, 19, 22, 23, 24, 25, 26, 27, 31, 38, 39, 40, 41, 42, 43, 44, 45, 46, 47, 48, 49, 50, 51, 52, 54, 60

El Salvador

• 01.00, 01.01, 01.06, 01.09, 01.10, 01.12, 03.01, 03.02, 03.03, 04.03, 09.01, 09.07, 09.10, 11, 12, 13.01, 13.02, 13.06, 13.09, 13.10, 13.11, 13.12, 13.13, 14.01, 14.02, 14.05, 14.07, 14.09, 14.18, 14.20, 14.22, 14.25, 14.33, 14.35, 14.39, 16, 19.05, 23, 24, 25, 26.04, 26.05, 26.07, 26.08, 26.11, 26.12, 26.13, 31.01, 31.05, 38, 40, 43, 44, 45.02, 45.03, 45.05, 45.07, 45.09, 45.10, 49, 50, 51.02, 51.04, 51.06, 51.07, 51.08, 51.09, 51.10, 51.15, 51.16, 51.17, 51.19, 51.20, 51.22, 51.23, 51.24, 51.25, 51.27, 51.31, 51.33, 52.03, 52.06, 52.09, 52.10, 52.11, 52.12, 52.15, 52.16, 52.20, 54, 60

Eritrea *

• 01, 03, 04, 05, 09, 10, 11, 12, 13, 14, 16, 19, 22, 23, 24, 25, 26, 27, 31, 38, 39, 40, 41, 42, 43, 44, 45, 46, 47, 48, 49, 50, 51, 52, 54, 60

Eswatini

• 01, 03, 04, 09.01, 09.04, 09.07, 09.09, 10, 11, 13, 14, 19.09, 22, 26, 27, 31, 40, 41, 42, 43, 44, 45, 46, 47, 48, 49.01, 49.02, 50.04, 51, 52, 60

Ethiopia

• 01, 03, 04, 09, 10, 11, 12, 13, 14, 16, 19, 22, 23, 24, 25, 26, 27, 31, 38, 39, 40, 41, 42, 43, 44, 45, 46, 47, 48, 49, 50, 51, 52, 54, 60

Fiji *

• 01, 03, 04, 05, 09, 10, 11, 12, 13, 14, 16, 19, 22, 23, 24, 25, 26, 27, 31, 38, 39, 40, 41, 42, 43, 44, 45, 46, 47, 48, 49, 50, 51, 52, 54, 60

Gambia, The

• 01, 03, 04, 05, 09, 10, 11, 12, 13, 14, 16, 19, 22, 23, 24, 25, 26, 27, 31, 38, 39, 40, 41, 42, 43, 44, 45, 46, 47, 48, 49, 50, 51, 52, 54

Ghana

• 01, 03, 04, 09, 10, 11, 13, 14, 16, 19.01, 19.05, 24, 25, 26, 27, 31, 38, 40, 41, 42, 43, 44, 45, 46, 47, 48, 49, 50, 51, 52, 54, 60

Guatemala

• 01, 03, 04, 05, 09.01, 09.04, 09.07, 09.10, 10, 11, 13, 14, 16, 19.01, 19.05, 22, 23, 24, 25, 26, 27, 40, 41, 42, 43, 44, 45, 48, 49, 51, 52.02, 52.03, 52.04, 52.06, 52.08, 52.09, 52.10, 52.11, 52.12, 52.13, 52.15, 52.16, 52.20, 60

Haiti

• 01, 03, 04, 09, 10, 11, 13, 14, 19, 22, 23, 24, 26, 27, 31, 40, 41, 42, 43, 44, 45

Honduras *

• 01, 03, 04, 05, 09, 10, 11, 12, 13, 14, 16, 19, 22, 23, 24, 25, 26, 27, 31, 38, 39, 40, 41, 42, 43, 44, 45, 46, 47, 48, 49, 50, 51, 52, 54, 60

Jamaica *

• 01, 03, 04, 05, 09, 10, 11, 12, 13, 14, 16, 19, 22, 23, 24, 25, 26, 27, 31, 38, 39, 40, 41, 42, 43, 44, 45, 46, 47, 48, 49, 50, 51, 52, 54, 60

Kenya *

• 01, 03, 04, 05, 09, 10, 11, 12, 13, 14, 16, 19, 22, 23, 24, 25, 26, 27, 31, 38, 39, 40, 41, 42, 43, 44, 45, 46, 47, 48, 49, 50, 51, 52, 54, 60

Kosovo

• 01.01, 01.06, 03.01, 03.02, 03.05, 04, 05, 09, 10, 11, 13, 14, 16, 19, 22, 23, 24, 25, 26, 27, 38, 40, 41, 42, 43, 44, 45, 46, 47, 48, 49, 50, 51, 52, 54, 60

Lebanon *

• 01, 03, 04, 05, 09, 10, 11, 12, 13, 14, 16, 19, 22, 23, 24, 25, 26, 27, 31, 38, 39, 40, 41, 42, 43, 44, 45, 46, 47, 48, 49, 50, 51, 52, 54, 60

Liberia *

• 01, 03, 04, 05, 09, 10, 11, 12, 13, 14, 16, 19, 22, 23, 24, 25, 26, 27, 31, 38, 39, 40, 41, 42, 43, 44, 45, 46, 47, 48, 49, 50, 51, 52, 54, 60

Malawi

• 01, 03, 04, 05, 09, 10, 11, 12, 13, 14.01, 14.03, 14.05, 14.07, 14.08, 14.09, 14.10, 14.14, 14.18, 14.19, 14.20, 14.21, 14.25, 14.33, 14.35, 14.38, 14.39, 16, 19, 22, 23, 24, 25, 26, 27, 31, 38, 39, 40, 41, 42, 43, 44, 45, 46, 47, 48, 49, 50, 51, 52, 54, 60

Mali

• 01, 03, 04, 05, 09, 10, 11, 13, 14, 16, 19, 22, 23, 24, 25, 26, 27, 40, 41, 42, 43, 44, 45, 46, 48, 49, 50, 51, 52, 54, 60

Mauritania *

• 01, 03, 04, 05, 09, 10, 11, 12, 13, 14, 16, 19, 22, 23, 24, 25, 26, 27, 31, 38, 39, 40, 41, 42, 43, 44, 45, 46, 47, 48, 49, 50, 51, 52, 54, 60

Mozambique

• 01, 03, 04, 05, 09, 10, 11, 12, 13, 14, 16, 19, 22, 23, 24, 25, 26, 27, 31, 38, 39, 40, 41, 42, 43, 44, 45, 46, 47, 48, 49, 50, 51, 52, 60

Nepal

• 01, 03, 04, 05, 09, 10, 11, 12, 13, 14, 16, 19, 23, 24, 25, 26, 27, 31, 38, 39, 40, 41, 42, 43, 44, 45, 46, 47, 48, 49, 50, 51, 52, 54, 60

Nicaragua *

• 01, 03, 04, 05, 09, 10, 11, 12, 13, 14, 16, 19, 22, 23, 24, 25, 26, 27, 31, 38, 39, 40, 41, 42, 43, 44, 45, 46, 47, 48, 49, 50, 51, 52, 54, 60

Niger

• 01, 03, 04, 05, 09.01, 09.04, 09.07, 09.09, 10.01, 10.02, 11, 13, 14.01, 14.03, 14.05, 14.07, 14.08, 14.09, 14.10, 14.14, 14.18, 14.19, 14.20, 14.21, 14.23, 14.25, 14.33, 14.35, 14.38, 14.39, 26, 27, 40, 41, 43, 45, 49.01, 49.02, 51, 52, 54, 60

Nigeria

• 01, 03, 04, 05, 09, 10, 11, 12, 13, 14, 16, 19, 22, 23, 24, 25, 26, 27,31, 40, 41, 42, 43, 44, 45, 46, 47, 48, 49, 50, 51, 52, 60

Palestinian Authority (West Bank and Gaza)

• 01, 03.01, 03.02, 04.03, 05, 09.01, 09.04, 09.07, 09.09, 10, 11, 13, 14.01, 14.05, 14.07, 14.08, 14.09, 14.10, 14.14, 14.19, 14.21, 14.25, 14.33, 14.35, 14.38, 14.39, 16, 19.09, 22, 23, 24, 25, 26.01, 27, 38, 39, 40.01, 40.04, 40.05, 40.08, 41, 42, 43, 44, 45.03, 46, 47, 48, 49.02, 50, 51, 52, 54, 60.01, 60.02

Philippines, The

• 01, 03, 04.03, 05, 09.01, 09.09, 09.10, 10, 11, 13.02, 13.06, 13.09, 13.10, 13.11, 13.12, 13.13, 14, 16, 19, 23, 25, 26, 27, 31, 39, 40, 41, 42, 43, 44.07, 45, 49, 51.01, 51.02, 51.04, 51.06, 51.07, 51.08, 51.09, 51.10, 51.12, 51.15, 51.17, 51.19, 51.22, 51.23, 51.24, 51.25, 51.27, 51.31, 51.33, 52.04, 52.06, 52.10, 52.11, 52.13, 52.14, 52.17, 52.20, 54, 60

Rwanda

• 01, 03, 04, 05, 09, 10, 11, 12, 13, 14, 16, 19, 22, 23, 24, 25, 26, 31, 38, 40, 41, 42, 43, 44, 45, 46, 47, 48, 49, 50, 51, 52, 54, 60

Senegal

• 01, 03, 04, 09, 10, 11, 13, 14, 16, 22, 23, 24, 25, 26, 27, 38, 40, 41, 42, 43, 44, 45, 47, 48, 49, 50, 51, 52, 54, 60

Tajikistan

• 01, 04, 10, 11, 14

Tanzania

• 01, 03, 04.02, 09.01, 09.04, 11, 13, 14, 16, 25, 26, 27, 31.01, 40, 41, 42, 43, 44, 45, 46, 47, 51, 52.02, 52.03, 52.08, 52.09, 52.10, 52.11, 52.20, 60

Timor-Leste *

• 01, 03, 04, 05, 09, 10, 11, 12, 13, 14, 16, 19, 22, 23, 24, 25, 26, 27, 31, 38, 39, 40, 41, 42, 43, 44, 45, 46, 47, 48, 49, 50, 51, 52, 54, 60

Togo

• 01, 03, 04, 05, 09, 10, 11, 12.05, 13, 14, 16, 19, 22, 23, 24, 25, 26, 27, 31, 39, 40, 41, 43, 44, 45, 51, 52, 60

Tonga *

• 01, 03, 04, 05, 09, 10, 11, 12, 13, 14, 16, 19, 22, 23, 24, 25, 26, 27, 31, 38, 39, 40, 41, 42, 43, 44, 45, 46, 47, 48, 49, 50, 51, 52, 54, 60

Venezuela, RB

• 01, 03, 04.03, 05, 09.01, 09.07, 10, 11, 13, 14, 16, 19.01, 19.05, 23, 24, 25, 26, 27, 31.01, 31.05, 38, 40, 41, 42, 44, 45, 46, 47, 48, 49, 50, 51, 52, 54, 60

Yemen, Rep.*

• 01, 03, 04, 05, 09, 10, 11, 12, 13, 14, 16, 19, 22, 23, 24, 25, 26, 27, 31, 38, 39, 40, 41, 42, 43, 44, 45, 46, 47, 48, 49, 50, 51, 52, 54, 60

Zambia *

• 01, 03, 04, 05, 09, 10, 11, 12, 13, 14, 16, 19, 22, 23, 24, 25, 26, 27, 31, 38, 39, 40, 41, 42, 43, 44, 45, 46, 47, 48, 49, 50, 51, 52, 54, 60

* All listed skills apply to this country.

Julie M. Stufft,
Deputy Assistant Secretary, Bureau of Consular Affairs, Department of State.

[FR Doc. 2024-28718 Filed 12-6-24; 8:45 am]

BILLING CODE 4710-06-P